DEPARTMENT OF EDUCATION

National Assessment Governing Board

Committee and Quarterly Board Meetings

AGENCY: National Assessment Governing Board, Department of Education.

ACTION: Notice of open and closed meetings.

SUMMARY: This notice sets forth the agenda, time, and instructions to access the National Assessment Governing Board's (hereafter referred to as the Board or Governing Board) standing committee meetings and quarterly Governing Board meeting. This notice provides information to members of the public who may be interested in attending the meetings and/or providing written comments related to the work of the Governing Board. The meetings will be held in person, as noted below. A registration link will be posted on the Governing Board's website, www.nagb.gov, five (5) business days prior to each meeting.

DATES: The Quarterly Board Meeting will be held on the following dates:

• March 6, 2025, from 7:15 a.m. to 3:25 p.m., ET.

ADDRESSES: Hotel AKA Alexandria, 625 First Street, Alexandria, VA 22314.

FOR FURTHER INFORMATION CONTACT: Angela Scott, Designated Federal Officer (DFO) for the Governing Board, 800 North Capitol Street NW, Suite 825, Washington, DC 20002, telephone: (202) 357-7502, fax: (202) 357-6945, email: Angela.Scott@ed.gov.

SUPPLEMENTARY INFORMATION: Statutory Authority and Function: The Governing Board is established under the National Assessment of Educational Progress Authorization Act (20 U.S.C. 9621). Information on the Governing Board and its work can be found at www.nagb.gov. Notice of the meetings is required under section 1009(a)(2) of 5 U.S.C. chapter 10 (commonly known as the Federal Advisory Committee Act). The Governing Board formulates policy for the National Assessment of Educational Progress (NAEP) administered by the National Center for Education Statistics (NCES). The Governing Board's responsibilities include:

(1) selecting the subject areas to be assessed; (2) developing appropriate student achievement levels; (3) developing assessment objectives and testing specifications that produce an assessment that is valid and reliable, and are based on relevant widely accepted professional standards; (4) developing a process for review of the assessment which includes the active participation of teachers, curriculum specialists, local school administrators, parents, and concerned members of the public; (5) designing the methodology of the assessment to ensure that assessment items are valid and reliable, in consultation with appropriate technical experts in measurement and assessment, content and subject matter, sampling, and other technical experts who engage in large scale surveys; (6) measuring student academic achievement in grades 4, 8, and 12 in the authorized academic subjects; (7) developing guidelines for reporting and disseminating results; (8) developing standards and procedures for regional and national comparisons; (9) taking appropriate actions needed to improve the form, content use, and reporting of results of an assessment; and (10) planning and executing the initial public release of NAEP results.

Standing Committee Meetings

The Governing Board's standing committees will meet to conduct regularly scheduled work. Standing committee meeting agendas and meeting materials will be posted on the Governing Board's website, www.nagb.gov, no later than five (5) business days prior to the meetings. Minutes of prior standing committee meetings are available at https://www.nagb.gov/governing-board/quarterly-board-meetings.html.

Standing Committee Meetings

Thursday, March 6, 2025

Assessment Development Committee (In-Person Meeting)

11:20 a.m.-12:20 p.m. (ET), Closed Session

12:20 p.m.-1:20 p.m. (ET), Open Session

The Assessment Development Committee will meet on Thursday, March 6, 2025, from 11:20 a.m. to 1:20 p.m. The committee will meet in closed session on Thursday, March 6, 2025, from 11:20 a.m.-12:20 p.m. to review findings from 2024 NAEP Reading and Mathematics Pilot Assessments. This review must be conducted in closed session because the content includes secure assessment data that has not been released to the public. Public disclosure of this information would significantly impede the implementation of the NAEP assessment program if conducted in open session. Such matters are protected by exemption 9(B) of the Government in the Sunshine Act, 5 U.S.C. 552b. The committee will meet in open session from 12:20 p.m.-1:20 p.m. to review Subject-Specific Contextual Variables for 2028 Reading, Mathematics, and Science Assessments.

Committee on Standards, Design and Methodology (In-Person Meeting)

11:20 a.m.-12:20 p.m. (ET), Closed Session

12:20 p.m.-1:20 p.m. (ET), Open Session

The Committee on Standards, Design and Methodology (COSDAM) will meet on Thursday, March 6, 2025, from 11:20 a.m. to 1:20 p.m. The committee will meet in closed session from 11:20 a.m. to 12:20 p.m., to discuss the findings from the 2024 Pilot Studies of Multi-Stage Testing and Item Difficulty Distributions. This session must be closed because it will include findings and presentations of items that have not been released to the public. Public disclosure of this confidential information would significantly impede implementation of the NAEP assessment program if conducted in open session. Such matters are protected by exemption 9(B) of the Government in the Sunshine Act, 5 U.S.C. 552b. The committee will convene in open session from 12:20 p.m. to 1:20 p.m. to discuss the 2025 COSDAM priorities—Achievement Levels and Practical Significance.

Reporting and Dissemination Committee (In-Person Meeting)

11:20 a.m.-1:20 p.m. (ET), Open Session

The Reporting and Dissemination Committee will meet on Thursday, March 6, 2025, from 11:20 a.m. to 1:20 p.m. in open session. The meeting will begin with member remarks and an overview of agenda topics from 11:20 to 11:35 a.m. The committee will review Core Contextual Questionnaire items from 11:35 a.m. to 12:20 p.m. From 12:20 p.m. to 1:20 p.m., the committee will discuss implementation of the Board's release plan for the 2024 NAEP Reading and Mathematics, Grades 4 and 8 Release.

Quarterly Governing Board Meeting

The plenary sessions of the Governing Board's March 2025 quarterly meeting will be held on the following dates and times:

Thursday, March 6, 2025

8:00 a.m.-3:25 p.m. (ET) (In-Person Meeting)

8:00 a.m.-8:35 a.m. (ET), Open Session

8:35 a.m.-11:05 a.m. (ET), Closed Session

1:20 p.m.-3:25 p.m. (ET) Open Session

On Thursday, March 6, 2025, the plenary session of the quarterly Governing Board meeting will convene in open session from 8:00 a.m. to 8:35 a.m. and 1:20 p.m. to 3:25 p.m., and in closed session from 8:35 a.m. to 11:05 a.m. From 8:00 a.m. to 8:05 a.m., Governor Beverly Perdue, Chair of the Governing Board, will welcome members, review and approve the March 6, 2025, quarterly Governing Board meeting agenda, and review and approve the minutes from the November 14-15, 2024, Governing Board meeting. From 8:05 a.m. to 8:15 a.m., Lesley Muldoon, Governing Board Executive Director, will provide updates on the Board's work. From 8:15 a.m. to 8:25 a.m., the Board will receive an update from NCES Commissioner Peggy Carr. Following a brief transitional break, the Board will meet in closed session from 8:35 a.m. to 11:05 a.m. From 8:35 a.m. to 10:35 a.m. the Board will receive a briefing from NCES Commissioner Peggy Carr on the NAEP Budget and Contracts and discuss the Assessment Schedule. These briefings and discussions may impact current and future NAEP contracts and budgets and must be kept confidential to maintain the integrity of the federal acquisition process. Public disclosure of this confidential information would significantly impede implementation of the NAEP assessment program if conducted in open session. Such matters are protected by exemption 9(B) of the Government in the Sunshine Act, 5 U.S.C. 552b.

The Board will continue in closed session from 10:35 a.m. to 11:05 a.m. to discuss the 2025 slate of finalists to be submitted to the Secretary of Education for Governing Board membership terms beginning October 1, 2025. This session must be closed because the discussion pertains to information of a personal nature where disclosure would constitute a clearly unwarranted invasion of personal privacy. As such, the discussions are protected by exemption 6 of the Government in the Sunshine Act, 5 U.S.C. 552b.

The Board will reconvene in open session. From 1:35 p.m. to 1:50 p.m., Governing Board members will discuss general topics of interest related to NAEP and the Board. From 1:50 p.m. to 2:45 p.m., the Board will discuss the AI Landscape in Large Scale Assessment and potential implications for NAEP. The Board will discuss and take action on the Assessment Framework Development Policy from 2:45 p.m. to 3:15 p.m. From 3:15 p.m. to 3:25 p.m., the Board will take action on the 2025 slate of finalists to be submitted to the Secretary of Education for Governing Board membership terms beginning October 1, 2025. The Thursday, March 6, 2025, session of the meeting will adjourn at 3:25 p.m.

Instructions for Accessing and Attending the Meetings

Registration: Members of the public may attend the March 6, 2025, meetings of the full Governing Board and subcommittee meetings in person. A link to the final meeting agenda and information on how to register for the open sessions will be posted on the Governing Board's website, www.nagb.gov, no later than five (5) business days prior to the meeting.

Public Comment: Written comments related to the work of the Governing Board and its standing committees may be submitted to the attention of the DFO, either via email to Angela.Scott@ed.gov or in hard copy to the address listed above. Written comments related to the March 6, 2025, Governing Board meeting should be submitted no later than close of business on February 26, 2025, and should reference the relevant agenda item.

Access to Records of the Meeting: Pursuant to 5 U.S.C. 1009, the public may inspect the meeting materials and other Governing Board records at 800 North Capitol Street NW, Suite 825, Washington, DC 20002, by emailing Angela.Scott@ed.gov to schedule an appointment. The official verbatim transcripts of the open meeting sessions will be available for public inspection no later than 30 calendar days following each meeting. Requests for the verbatim transcriptions may be made via email to the DFO.

Reasonable Accommodations: The meeting location is accessible to individuals with disabilities. If you will need an auxiliary aid or service to participate in the meeting (e.g., interpreting service, assistive listening device, or materials in an alternate format), notify the DFO listed in this notice by close of business on February 26, 2025.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, title III, section 301—National Assessment of Educational Progress Authorization Act (20 U.S.C. 9621).

Elizabeth Schneider,
Deputy Executive Director, National Assessment Governing Board (NAGB), U.S. Department of Education.

[FR Doc. 2025-02864 Filed 2-19-25; 8:45 am]

BILLING CODE 4000-01-P